NATIONAL SCIENCE FOUNDATION

Agency Information Collection Activities: Comment Request; National Science Foundation Breakthrough Innovations Initiative Application

AGENCY: National Science Foundation.

ACTION: Notice.

SUMMARY: The National Science Foundation (NSF) is announcing plans to renew this collection. In accordance with the requirements of the Paperwork Reduction Act of 1995, we are providing this opportunity for public comment on this action. After obtaining and considering public comment, NSF will prepare the submission requesting Office of Management and Budget (OMB) clearance of this collection for no longer than 3 years.

DATES: Written comments on this notice must be received by September 2, 2025 to be assured consideration. Comments received after that date will be considered to the extent practicable. Send comments to address below.

FOR FURTHER INFORMATION CONTACT: Suzanne H. Plimpton, Reports Clearance Officer, National Science Foundation, 2415 Eisenhower Avenue, Suite E6300, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation Breakthrough Innovations Initiative Application.

OMB Control No.: 3145-NEW.

Expiration Date of Approval: Not applicable.

Abstract: The U.S. National Science Foundation (NSF) Directorate for Technology, Innovation and Partnerships (TIP) is launching an effort to enable researchers, innovators, and entrepreneurs to apply unconventional approaches to create game-changing technologies and translate discoveries into tangible applications and products.

This effort will utilize a process based on the German Federal Agency for Breakthrough Innovation (SPRIND) Challenge prize model with the intention of accelerating timelines for selecting and conducting translational research, including through a significantly streamlined application form, submission portal, and selection process. The administrative burden on the applicants and selected teams will be reduced, and data will be collected to assess whether this has a positive impact on the speed of innovation, including the time to market. Through this effort, NSF investment will help teams advance high-risk, high-reward ideas on NSF-defined topics and facilitate mentoring and technical assistance to enable teams to meet NSF-defined milestones and objectives and maximize their translational potential.

As Office of Science and Technology Policy (OSTP) Director Kratsios said in his policy speeches on April 14 and May 19, 2025: “It is the duty of government to enable scientists to create new theories and empower engineers to put them into practice. Prizes, advanced market commitments, and other novel funding mechanisms, like fast and flexible grants, can multiply the impact of government-funded research.” Thus, in this current effort, we are piloting a novel, fast, and flexible funding mechanism through a short application and streamlined selection process.

NSF TIP is establishing this new data collection for the application form that will allow managing program officers to collect the necessary information from applicants for the purpose of making a funding decision. This information includes, but is not exclusive to, name, job title, professional affiliation, email address and phone number of the applicant(s), along with a description (no more than 2,000 words) of the proposed idea/solution pertaining to the scientific/technical track or theme of the corresponding challenge. Specifically, the information requested would include: (1) how applicants aim to technically reach the track's goals and milestones, (2) how their solution could be integrated into downstream processes, and (3) what preliminary work has been completed, and the technical maturity of the proposed technology. In addition, the application form would also request descriptions of a work plan (of no more than 1000 words) detailing the schedule, cost, personnel, infrastructure, and a narrative (of no more than 500 words) outlining the knowledge and expertise of each member of the project team. Finally, the application would contain a certification section pertaining to foreign influence disclosures, such as whether the applicant is affiliated with any malign foreign talent recruitment program, and whether any of the team members receives funding from any foreign country of concern.

Data collected will be used strictly for funding decisions, due-diligence, auditing, and/or legal purposes, and are needed for effective award management, oversight, and administration. The data collection burden for the application form is estimated to be 15 to 25 hours of the respondents' time in each instance.

Respondents: Principal Investigators (PIs) of the Breakthrough Innovations Initiative.

Estimated Number of Annual Respondents: 100.

Burden on the Public: The overall annualized cost to the respondents is estimated to be $79,500-$132,500. The following table shows the annualized estimate of costs to PIs who are generally university faculty. This estimated hourly rate is based on a report from the American Association of University Professors, “The Annual Report on the Economic Status of the Profession, 2022-23,” Academe, June 2023, Survey Report Table 1. According to this report, the average salary of an associate professor across all types of doctoral-granting institutions was $110,945. When divided by the number of standard annual work hours (2,080), this calculates to approximately $53 per hour.

Respondent type | Number of respondents | Burden hours per respondent | Average hourly rate | Estimated annual cost
PIs | 100 | 15-25 | $53 | $79,500-$132,500
Total |  |  |  | $79,500-$132,500

Dated: June 30, 2025.
Suzanne H. Plimpton,
Reports Clearance Officer, National Science Foundation.

[FR Doc. 2025-12375 Filed 7-1-25; 8:45 am]

BILLING CODE 7555-01-P